DEPARTMENT OF LABOR

Employment and Training Administration

Workforce Investment Act of 1998 (WIA); Notice of Incentive Funding Availability for Program Year (PY) 2003 Performance

AGENCY: Employment and Training Administration (ETA), Labor.

ACTION: Notice.

SUMMARY: The Department of Labor, in collaboration with the Department of Education, announces that 19 states are eligible to apply for Workforce Investment Act (WIA) (Pub. L. 105-220, 29 U.S.C. 2801 et seq.) incentive awards under the WIA Regulations.

DATES: The 19 eligible states must submit their applications for incentive funding to the Department of Labor by June 13, 2005.

ADDRESSES: Submit applications to the Employment and Training Administration, Office of Performance and Technology, 200 Constitution Avenue NW., Room S-5206, Washington, DC 20210, Attention: Esther R. Johnson, 202-693-3031 (phone), 202-693-3490 (fax), e-mail: johnson.esther@dol.gov. Please be advised that mail delivery in the Washington, DC area has been inconsistent because of concerns about anthrax contamination. States are encouraged to submit applications via e-mail.

FOR FURTHER INFORMATION CONTACT: The Office of Performance and Technology, Karen Staha (phone: 202-693-3031 or e-mail: staha.karen@dol.gov). (This is not a toll-free number.) Information may also be found at the Web site: http://www.doleta.gov/performance.

SUPPLEMENTARY INFORMATION: 19 states (see list below) have qualified to receive a share of the $16.6 million available for incentive grant awards under WIA section 503. These funds, which were contributed by the Department of Education from appropriations for the Adult Education and Family Literacy Act and the Carl D. Perkins Vocational and Technical Education Act, are available to the states through June 30, 2007, to support innovative workforce development and education activities that are authorized under title I (Workforce Investment Systems) or title II (the Adult Education and Family Literacy Act (AEFLA)) of WIA, or under the Perkins Act (Pub. L. 105-332, 20 U.S.C. 2301 et seq.). In order to qualify for a grant award, a state must have exceeded performance levels, agreed to by the Secretaries, Governor, and State Education Officer, for outcomes in WIA title I, adult education (AEFLA), and vocational education (Perkins Act) programs. The goals included placement after training, retention in employment, and improvement in literacy levels, among other measures. After review of the performance data submitted by states to the Department of Labor and to the Department of Education, each Department determined which states would qualify for incentives for its program(s). (See below for a list of the states that qualified under all three Acts.) These lists of eligible states were compared, and states that qualified under all three programs are eligible to receive an incentive grant award. The amount that each state is eligible to receive was determined by the Department of Labor and the Department of Education and is based on WIA section 503(c) (20 U.S.C. 9273(c)), and is proportional to the total funding received by these states for the three Acts.

The states eligible to apply for incentive grant awards, and the amounts they are eligible to receive, are listed below:

State | Amount of award
1. Alabama | $912,153
2. Colorado | 825,020
3. Delaware | 776,272
4. Georgia | 944,675
5. Iowa | 803,173
6. Indiana | 879,629
7. Louisiana | 966,800
8. Maryland | 870,909
9. Michigan | 1,024,160
10. Minnesota | 852,449
11. Missouri | 891,441
12. North Dakota | 772,770
13. Nebraska | 783,830
14. Nevada | 797,987
15. Oregon | 874,471
16. Pennsylvania | 1,076,445
17. South Carolina | 867,055
18. South Dakota | 773,309
19. Tennessee | 912,500

These eligible states must submit their applications for incentive funding to the Department of Labor by June 13, 2005. As set forth in the provisions of WIA section 503(b)(2) (20 U.S.C. 9273(b)(2)), 20 CFR 666.220(b) and Training and Employment Guidance Letter (TEGL) No. 20-01, Change 3, Application Process for Workforce Investment Act (WIA) Section 503 Incentive Grants, Program Year 2003 Performance, which is available at http://www.doleta.gov/performance, the application must include assurances that:

A. The legislature of the state was consulted with respect to the development of the application.

B. The application was approved by the Governor, the eligible agency for adult education (as defined in section 203(4) of WIA (20 U.S.C. 9202(4))), and the state agency responsible for vocational and technical education programs (as defined in section 3(9) of Perkins III (20 U.S.C. 2302(9)).

C. The state and the eligible agency, as appropriate, exceeded the state adjusted levels of performance for WIA title I, the state adjusted levels of performance for the AEFLA, and the performance levels established for Perkins Act programs.

In addition, states are requested to provide a description of the planned use of incentive grants as part of the application process, to ensure that the state's planned activities are innovative and are otherwise authorized under the WIA title I, the AEFLA, and/or the Perkins Act as amended, as required by WIA section 503(a). TEGL No. 20-01, Change 3 provides the specific application process that states must follow to apply for these funds.

The applications may take the form of a letter from the Governor, or designee, to the Assistant Secretary of Labor, Emily Stover DeRocco, Attention: Esther R. Johnson, 200 Constitution Avenue NW., Room S-5206, Washington, DC 20210. In order to expedite the application process, states are encouraged to submit their applications electronically to Karen Staha at staha.karen@dol.gov.

The states will receive their incentive awards by June 30, 2005.

Signed at Washington, DC, this 21st day of April, 2005.
Emily Stover DeRocco,
Assistant Secretary for Employment and Training.

PY2003 Performance Qualifies State for Incentives
State | WIA | AEFLA | Perkins Act | Eligible for incentive
1. Alaska |  |  | X |
2. Alabama | X | X | X | X
3. Arkansas |  | X | X |
4. Arizona |  | X | X |
5. California |  | X | X |
6. Colorado | X | X | X | X
7. Connecticut |  | X | X |
8. District of Columbia |  | X | X |
9. Delaware | X | X | X | X
10. Florida |  | X | X |
11. Georgia | X | X | X | X
12. Hawaii |  | X |  |
13. Iowa | X | X | X | X
14. Idaho |  |  | X |
15. Illinois |  | X | X |
16. Indiana | X | X | X | X
17. Kansas |  | X | X |
18. Kentucky | X | X |  |
19. Louisiana | X | X | X | X
20. Massachusetts |  | X | X |
21. Maryland | X | X | X | X
22. Maine |  | X | X |
23. Michigan | X | X | X | X
24. Minnesota | X | X | X | X
25. Missouri | X | X | X | X
26. Mississippi | X |  | X |
27. Montana |  |  | X |
28. North Carolina |  | X | X |
29. North Dakota | X | X | X | X
30. Nebraska | X | X | X | X
31. New Hampshire |  | X | X |
32. New Jersey |  |  | X |
33. New Mexico | X |  | X |
34. Nevada | X | X | X | X
35. New York | X |  | X |
36. Ohio |  | X | X |
37. Oklahoma |  | X | X |
38. Oregon | X | X | X | X
39. Pennsylvania | X | X | X | X
40. Puerto Rico |  | X |  |
41. Rhode Island |  | X | X |
42. South Carolina | X | X | X | X
43. South Dakota | X | X | X | X
44. Tennessee | X | X | X | X
45. Texas |  | X |  |
46. Utah |  |  | X |
47. Virginia |  | X | X |
48. Vermont |  | X | X |
49. Washington | X |  | X |
50. Wisconsin |  | X | X |
51. West Virginia |  | X |  |
52. Wyoming |  | X | X |

[FR Doc. 05-8449 Filed 4-26-05; 8:45 am]

BILLING CODE 4510-30-P